DEPARTMENT OF JUSTICE

Drug Enforcement Administration

[Docket No. DEA-392]

Importer of Controlled Substances Registration: Research Triangle Institute

ACTION: Notice of registration.

SUMMARY: Research Triangle Institute applied to be registered as an importer of a certain basic class of narcotic controlled substance. The DEA grants Research Triangle Institute registration as an importer of this controlled substance.

SUPPLEMENTARY INFORMATION: By notice dated April 21, 2014, and published in the Federal Register on April 28, 2014, 79 FR 23373, Research Triangle Institute, Kenneth S. Rehder, Ph.D., Hermann Building, East Institute Drive, P.O. Box 12194, Research Triangle Park, North Carolina 27709, applied to be registered as an importer of a certain basic class of narcotic controlled substance. No comments or objections were submitted for this notice.

The Drug Enforcement Administration (DEA) has considered the factors in 21 U.S.C. 823, 952(a) and 958(a) and determined that the registration of Research Triangle Institute to import the basic class of controlled substance is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of noroxymorphone (9668), a basic class of narcotic controlled substance listed in schedule II.

The company plans to import small quantities of the listed controlled substance for the National Institute on Drug Abuse for research activities.

Dated: January 21, 2015.
Joseph T. Rannazzisi,
Deputy Assistant Administrator.

[FR Doc. 2015-01578 Filed 1-27-15; 8:45 am]

BILLING CODE 4410-09-P